DEPARTMENT OF THE INTERIOR

National Park Service

[NPS-WASO-NAGPRA-NPS0027460; PPWOCRADN0-PCU00RP14.R50000]

Notice of Inventory Completion: Phoebe A. Hearst Museum of Anthropology, University of California Berkeley, Berkeley, CA

AGENCY: National Park Service, Interior.

ACTION: Notice.

SUMMARY: The Phoebe A. Hearst Museum of Anthropology has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Phoebe A. Hearst Museum of Anthropology. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Phoebe A. Hearst Museum of Anthropology at the address in this notice by May 24, 2019.

ADDRESSES: Jordan Jacobs, Head of Cultural Policy & Repatriation, Phoebe A. Hearst Museum of Anthropology, University of California Berkeley, 103 Kroeber Hall, Berkeley, CA 94720, telephone (510) 643-8230, email j.jacobs@berkeley.edu.

SUPPLEMENTARY INFORMATION: Notice is here given in accordance with the Native American Graves Protection and Repatriation Act (NAGPRA), 25 U.S.C. 3003, of the completion of an inventory of human remains under the control of the Phoebe A. Hearst Museum of Anthropology, University of California, Berkeley, CA. The human remains were removed from Kings County, CA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Phoebe A. Hearst Museum of Anthropology professional staff in consultation with representatives of the Agua Caliente Band of Cahuilla Indians of the Agua Caliente Indian Reservation, California; Buena Vista Rancheria of Me-Wuk Indians of California; Cahuilla Band Indians (previously listed as the Cahuilla Band of Mission Indians of the Cahuilla Reservation, California); California Valley Miwok Tribe, California; Chicken Ranch Rancheria of Me-Wuk Indians of California; Ione Band of Miwok Indians of California; Jackson Band of Miwuk Indians (previously listed as the Jackson Rancheria of Me-Wuk Indians of California); Los Coyotes Band of Cahuilla and Cupeno Indians, California (previously listed as the Los Coyotes Band of Cahuilla & Cupeno Indians of the Los Coyotes Reservation); Middletown Rancheria of Pomo Indians of California; Morongo Band of Mission Indians, California (previously listed as the Morongo Band of Cahuilla Mission Indians of the Morongo Reservation); Picayune Rancheria of Chukchansi Indians of California; Quechan Tribe of the Fort Yuma Indian Reservation, California & Arizona; Ramona Band of Cahuilla, California (previously listed as the Ramona Band or Village of Cahuilla Mission Indians of California); Santa Rosa Indian Community of the Santa Rosa Rancheria, California; Shingle Springs Band of Miwok Indians, Shingle Springs Rancheria (Verona Tract), California; Table Mountain Rancheria (previously listed as the Table Mountain Rancheria of California); Tejon Indian Tribe; Torres Martinez Desert Cahuilla Indians, California (previously listed as the Torres-Martinez Band of Cahuilla Mission Indians of California); Tule River Indian Tribe of the Tule River Reservation, California; and the Wilton Rancheria, California; hereafter referred to as “The Tribes.”

History and Description of the Remains

In 1939, one set of human remains was removed from the ground surface of CA-Kin-1 in Kings County, CA, by Gordon W. Hewes and W. C. Massey of the Department of Anthropology at the University of California, Berkeley, and donated to the University the same year. The collecting archeologists noted an adjacent habitation and burial mound and the ongoing Works Progress Administration road construction activities that had disturbed it. No known individuals were identified. No associated funerary objects are present.

In 1939, one set of human remains was removed from the ground surface of CA-Kin-4 in Kings County, CA, by Gordon W. Hewes and W. C. Massey of the Department of Anthropology at the University of California, Berkeley, and donated to the University the same year. The presence of a habitation and burial mound and the burned remains of a modern house has been noted at this site. No known individuals were identified. No associated funerary objects are present.

In 1939, one set of human remains was removed from the ground surface of CA-Kin-7 in Kings County, CA, by Gordon W. Hewes and W. C. Massey of the Department of Anthropology at the University of California, Berkeley, and donated to the University the same year. The presence of a burial mound has been noted at this site. No known individuals were identified. No associated funerary objects are present.

In 1939, one set of human remains was removed from the ground surface of CA-Kin-8 in Kings County, CA, by Gordon W. Hewes and W. C. Massey of the Department of Anthropology at the University of California, Berkeley, and donated to the University the same year. The presence of a burial and occupational mound has been noted at this site. No known individuals were identified. No associated funerary objects are present.

In 1939, one set of human remains was removed from the ground surface of CA-Kin-9 in Kings County, CA, by Gordon W. Hewes and W. C. Massey of the Department of Anthropology at the University of California, Berkeley, and donated to the University the same year. The presence of a burial mound has been noted at this site. No known individuals were identified. No associated funerary objects are present.

In 1939, one set of human remains was removed from the ground surface of CA-Kin-10 in Kings County, CA, by Gordon W. Hewes and W. C. Massey of the Department of Anthropology at the University of California, Berkeley, and donated to the University the same year. The presence of a burial mound and the burned remains of a modern house have been noted at this site. No known individuals were identified. No associated funerary objects are present.

In 1939, one set of human remains was removed from the ground surface of CA-Kin-12 in Kings County, CA, by Gordon W. Hewes and W. C. Massey of the Department of Anthropology at the University of California, Berkeley, and donated to the University the same year. The presence of a burial and occupational mound have been noted at this site. No known individuals were identified. No associated funerary objects are present.

In 1939, one set of human remains was removed from the ground surface of CA-Kin-19 in Kings County, CA, by Gordon W. Hewes and W. C. Massey of the Department of Anthropology at the University of California, Berkeley, and donated to the University the same year. The presence of a burial and occupational mound have been noted at this site. No known individuals were identified. No associated funerary objects are present.

At the time of the removal, the land from which the remains were removed was not the tribal land of any Indian Tribe or Native Hawaiian organization. On August 29, 2013, the University of California, Berkeley initiated consultation with all Indian tribes, The Tribes, who are recognized as aboriginal to the area from which these Native American human remains were removed. By October 2016, the University of California, Berkeley had conducted in-person consultation or received written acknowledgment indicating a lack of desired continued consultation from all of the aforementioned tribes.

In 2000, the University of California, Berkeley, determined that these human remains are Native American under statute, and in 2018, confirmed this determination in light of subsequent clarification in Bonnichsen v. United States, 367 F.3d 864 (9th Cir. Or. 2004). The University of California, Berkeley agreed to transfer control of the human remains to The Tribes. Consultation with all The Tribes indicates their unanimous support for the disposition of the human remains to Santa Rosa Indian Community of the Santa Rosa Rancheria, California.

Determinations Made by the University of California, Berkeley

Officials of the University of California, Berkeley have determined that:

• Pursuant to 25 U.S.C. 3001(9), the human remains described in this notice are Native American based on the preponderance of evidence available, particularly the field notes about the collection sites prepared by the researcher who originally gathered the human remains and through consultation with Native American tribes relevant to the geography of these sites.

• Pursuant to 25 U.S.C. 3001(9), the human remains described in this notice represent eight sets of human remains of Native American ancestry.

• Pursuant to 25 U.S.C. 3001(2), a relationship of shared group identity cannot be reasonably traced between the Native American human remains and any present-day Indian Tribe.

• Treaties, Acts of Congress, Executive Orders, or other information indicate that the land from which the Native American human remains were removed is the aboriginal land of The Tribes.

• Pursuant to 43 CFR 10.11(c)(2)(i), the disposition of the human remains may be to The Tribes.

Additional Requestors and Disposition

Representatives of any Indian Tribe or Native Hawaiian organization not identified in this notice that wish to request transfer of control of these human remains should submit a written request with information in support of the request to Jordan Jacobs, Head of Cultural Policy & Repatriation, Phoebe A. Hearst Museum of Anthropology, University of California, Berkeley, 103 Kroeber Hall, Berkeley CA 94720, telephone (510) 643-8230, email j.jacobs@berkeley.edu, by May 24, 2019. After that date, if no additional requestors have come forward, transfer of control of the human remains to The Tribes may proceed.

The Phoebe A. Hearst Museum of Anthropology is responsible for notifying The Tribes that this notice has been published.

Dated: March 11, 2019.
Melanie O'Brien,
Manager, National NAGPRA Program.

[FR Doc. 2019-08233 Filed 4-23-19; 8:45 am]

BILLING CODE 4312-52-P